DEPARTMENT OF JUSTICE

Notice of Lodging of Consent Decree Under the Comprehensive Environmental Response, Compensation, and Liability Act

Notice is hereby given that on August 31, 2006, a proposed Consent Decree in United States v. City of New Orleans, et al., Civil Action No. 02-3618, Section “E”, was lodged with the United States District Court for the Eastern District of Louisiana.

In this action the United States, on behalf of the United States Environmental Protection Agency (“EPA”), sought to recover response costs from certain parties. EPA incurred such costs in response to releases and threatened releases of hazardous substances from the Agriculture Street Landfill (the “Site”) located in New Orleans, Louisiana. The proposed Consent Decree requires BFI Waste Systems of North America, Inc. (“BFI”), a third-party defendant, to pay $335,000 towards the response costs incurred by EPA. The proposed Consent Decree resolves BFI's liability under Section 107(a) of CERCLA, 42 U.S.C. 9607(a), for costs already incurred at the site by EPA or by the Department of Justice on behalf of EPA.

The Department of Justice will receive for a period of thirty (30) days from the date of this publication comments relating to the Consent Decree. Comments should be addressed to the Assistant Attorney General for the Environment and Natural Resources Division, U.S. Department of Justice, P.O. Box 7611, NW., Washington, DC 20044-7611, and should refer to United States v. City of New Orleans, et al., D.J. Ref. 90-11-3-1683/2.

The Consent Decree may be examined at the Office of the United States Attorney, Eastern District of Louisiana, 500 Poydras Street, Suite 210, New Orleans, Louisiana 70130, and at the offices of EPA, Region 6, 1445 Ross Ave., Dallas, TX 75202-2733. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury.

Thomas A. Mariani, Jr.,
Assistant Section Chief, Envirionmental Enforcement Section, Environment and Natural Resources Division.

[FR Doc. 06-7782 Filed 9-19-06; 8:45 am]

BILLING CODE 4410-15-M